DEPARTMENT OF HOUSING AND URBAN DEVELOPMENT

[Docket No. FR-4710-N-06]

Public Housing Assessment System (PHAS); Extension of Interim Scoring Methodologies for PHAS Physical Condition and Financial Condition Indicators

AGENCY: Office of the Assistant Secretary for Public and Indian Housing, HUD.

ACTION: Notice.

SUMMARY: This notice advises public housing agencies (PHAs) and the public that HUD will extend the use of interim scoring methodologies for the Public Housing Assessment System (PHAS) Physical Condition and Financial Condition Indicators. These methodologies were adopted by notice published in the Federal Register on March 15, 2002, and described in notices published in the Federal Register on November 26, 2001. This extension applies to PHAs with fiscal years ending December 31, 2002; March 31, 2003, and June 30, 2003.

FOR FURTHER INFORMATION CONTACT: For further information contact the Office of Public and Indian Housing Real Estate Assessment Center (PIH-REAC), Attention: Wanda Funk, U.S. Department of Housing and Urban Development, 1280 Maryland Avenue, SW., Suite 800, Washington DC 20024; telephone the Technical Assistance Center at 1-888-245-4860 (this is a toll free number). Persons with hearing-or speech-impairments may access that number via TTY by calling the Federal Information Relay Service at (800) 877-8339. Additional information is available from the PIH-REAC internet site, http://www.hud.gov/offices/reac.

SUPPLEMENTARY INFORMATION:

I. Background

On March 15, 2002, HUD published a notice (67 FR 11844) adopting a PHAS interim scoring methodology for PHAs with fiscal years ending September 30, 2001, December 31, 2001, March 31, 2002, June 30, 2002, and September 30, 2002. In that notice HUD announced changes in the scoring methodology for two of the four PHAS assessment indicators: the Physical Condition Indicator and Financial Condition Indicator. Detailed information about the changes to the scoring processes was provided in notices published in the Federal Register on November 26, 2001. The Introduction notice was published at 66 FR 59080. The Physical Condition Scoring Process Interim Scoring notice was published at 66 FR 59084. The Financial Condition Scoring Process Interim Assessments notice was published at 66 FR 59126.

For the Physical Condition Indicator, during the interim period, the inspectable areas are reduced from five to two. The weights assigned to the three unscored inspectable areas are redistributed over the two remaining inspectable areas. In addition, for PHAs with a Physical Condition Indicator score of less than 24 on the 30-point scale, properties will be inspected once a year. For PHAs with a Physical Condition Indicator score of 24 or greater on the 30-point scale, properties will be inspected every two years.

For the Financial Condition Indicator, the score for Current Ratio (CR) and number of Months Expendable Fund Balance (MEFB) will not be based on peer groups. All PHAs with a CR or MEFB component value of less than one will receive zero points for these two components if the component values for CR and MEFB are equal to or greater than one, then PHAs, regardless of standing in relation to their peers, will receive the full nine points for each component.

II. Extension of Interim Scoring Methodologies for PHAS Physical Condition and Financial Condition Indicators

At the time that the interim scoring processes were adopted on March 15, 2002, the Department advised that if an extension of the interim period were necessary, the Department would notify PHAs and the public by notice published in the Federal Register. The Department has determined that an extension of the interim period is necessary, and by this notice is notifying PHAs and the public that the effective period for the interim scoring processes is extended to PHAs having fiscal years ending on December 31, 2002, March 31, 2003, and June 30, 2003. As advised in the November 26, 2001, notice, the Department is considering improvements and changes to PHAS, and will continue to do so during this extension of the interim period. With respect to any action that may be taken, and consistent with the PHAS rule, HUD will provide advance notice of any changes and provide the opportunity for comment.

Dated: August 26, 2002.
Paula O. Blunt,
General Deputy Assistant Secretary for Public and Indian Housing.

[FR Doc. 02-22206 Filed 8-29-02; 8:45 am]

BILLING CODE 4210-33-P